NATIONAL SCIENCE FOUNDATION

Advisory Committee for Geosciences; Notice of Meeting

In accordance with the Federal Advisory Committee Act (Public law 92-463, as amended), the National Science Foundation announces the following meeting:

Name: Advisory Committee for Geosciences (1755).

Dates/Times: October 27, 2004, 2-5:30 p.m., October 28, 2004 8:30 a.m.-5:30 p.m., October 29, 2004, 8:30 a.m.-2 p.m.

Place: National Science Foundation, 4201 Wilson Boulevard, Room 1235, Arlington, VA 22230.

Type of Meeting: Open.

Contact Person: Dr. Thomas Spence, Directorate for Geosciences, National Science Foundation, Suite 705, 4201 Wilson Boulevard, Arlington, Virginia 22230, phone 703-292-8500.

Minutes: May be obtained from the contact person listed above.

Purpose of Meeting: To provide advice, recommendations, and oversight concerning support for research, education, and human resources development in the geosciences.

Agenda:

Day 1

Directorate Activity Reports

Meeting with NSF Deputy Director

Day 2

Planning, Coordination, and Implementation Activities

Division Subcommittee Meeting and Reports

Day 3

Education and Diversity Subcommittee Meeting

Committee of Visitors Reports

Intersessional Activities

Dated: September 29, 2004.
Susanne Bolton,
Committee Management Officer.

[FR Doc. 04-22225 Filed 10-1-04; 8:45 am]

BILLING CODE 7555-01-M